DEPARTMENT OF ENERGY

Federal Energy Regulatory Commission

Combined Notice of Filings #1

Take notice that the Commission received the following exempt wholesale generator filings:

Docket Numbers: EG18-97-000.

Applicants: Origis Energy.

Description: Notice of Self-Certification of Exempt Wholesale Generator Status of Origis Energy.

Filed Date: 6/11/18.

Accession Number: 20180611-5042.

Comments Due: 5 p.m. ET 7/2/18.

Docket Numbers: EG18-98-000.

Applicants: Palmer's Creek Wind Farm, LLC.

Description: Self-Certification of EWG Status of Palmer's Creek Wind Farm, LLC.

Filed Date: 6/11/18.

Accession Number: 20180611-5065.

Comments Due: 5 p.m. ET 7/2/18.

Take notice that the Commission received the following electric rate filings:

Docket Numbers: ER10-1585-012; ER10-1594-012; ER10-1617-012; ER10-1628-012; ER10-1632-014; ER12-60-014; ER16-1148-003; ER16-733-003

Applicants: Alabama Electric Marketing, LLC, California Electric Marketing, LLC, LQA, LLC, New Mexico Electric Marketing, LLC, Tenaska Energía de Mexico, S. de R. L. de C.V., Tenaska Power Services Co., Tenaska Power Management, LLC, Texas Electric Marketing, LLC.

Description: Notice of Change in Status of the Indicated Tenaska MBR Sellers.

Filed Date: 6/8/18.

Accession Number: 20180608-5099.

Comments Due: 5 p.m. ET 6/29/18.

Docket Numbers: ER10-1633-001.

Applicants: Deseret Generation & Transmission Co-operative, Inc.

Description: Notice of Change in Status of Deseret Generation and Transmission Co-operative, Inc.

Filed Date: 6/8/18.

Accession Number: 20180608-5138.

Comments Due: 5 p.m. ET 6/29/18.

Docket Numbers: ER10-2498-005.

Applicants: South Carolina Electric & Gas Company.

Description: Notice of Non-Material Change in Status of South Carolina Electric & Gas Company.

Filed Date: 6/8/18.

Accession Number: 20180608-5147.

Comments Due: 5 p.m. ET 6/29/18.

Docket Numbers: ER18-1268-001.

Applicants: Southwest Power Pool, Inc.

Description: Tariff Amendment: Amended Filing—Revisions to Implement a Set of Resource Adequacy Policies to be effective 7/1/2018.

Filed Date: 6/8/18.

Accession Number: 20180608-5136.

Comments Due: 5 p.m. ET 6/29/18.

Docket Numbers: ER18-1765-000.

Applicants: PJM Interconnection, L.L.C.

Description: Compliance filing: Notice of Cancellation of ISA, Service Agreement No. 2383, NQ26A to be effective N/A.

Filed Date: 6/11/18.

Accession Number: 20180611-5026.

Comments Due: 5 p.m. ET 7/2/18.

Docket Numbers: ER18-1766-000.

Applicants: Palmer's Creek Wind Farm, LLC.

Description: Baseline eTariff Filing: Application For Market Based Rate to be effective 8/11/2018.

Filed Date: 6/11/18.

Accession Number: 20180611-5061.

Comments Due: 5 p.m. ET 7/2/18.

Docket Numbers: ER18-1767-000.

Applicants: PJM Interconnection, L.L.C.

Description: § 205(d) Rate Filing: Original WMPA SA No. 5095; Queue No. AB2-022 to be effective 5/21/2018.

Filed Date: 6/11/18.

Accession Number: 20180611-5076.

Comments Due: 5 p.m. ET 7/2/18.

Docket Numbers: ER18-1768-000.

Applicants: Southwest Power Pool, Inc.

Description: § 205(d) Rate Filing: 1166R32 Oklahoma Municipal Power Authority NITSA and NOA to be effective 7/1/2018.

Filed Date: 6/11/18.

Accession Number: 20180611-5106.

Comments Due: 5 p.m. ET 7/2/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2018.
Kimberly D. Bose,
Secretary.

[FR Doc. 2018-12951 Filed 6-15-18; 8:45 am]

BILLING CODE 6717-01-P